DEPARTMENT OF ENERGY

Office of Fossil Energy

Orders Granting and Vacating Authority To Import and Export Natural Gas, Including Liquefied Natural Gas

In the matter of: FE Docket Nos. 92-142-NG, 94-15-NG, 02-95-NG, 02-92-NG, and 02-143-NG, 92-94-NG, 92-140-NG, 02-98-NG, 03-01-NG, 02-100-NG, 02-101-LNG, 02-102-LNG, 03-02-NG, 03-03-NG; The Berkshire Gas Company, Phillips Gas Marketing Company, El Paso Merchant Energy, L.P., EnergyNorth Natural Gas, Inc., Essex Gas Company, Essex County Gas Company, AllEnergy Gas & Electric Marketing Company, L.L.C., Abitibi-Consolidated Company of Canada, NorthWestern Energy, a Division of Northwestern Corporation, Western International Holdings Ltd., Oleum Energy Corporation, Selkirk Cogen Partners, L.P., AIG Energy Trading Inc.; Orders Granting and Vacating Authority To Import and Export Natural Gas, Including Liquefied Natural Gas.

AGENCY: Office of Fossil Energy, DOE.

ACTION: Notice of orders.

SUMMARY: The Office of Fossil Energy (FE) of the Department of Energy gives notice that during January 2003, it issued Orders granting and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on February 11, 2003.
Clifford P. Tomaszewski,
Manager, Natural Gas Regulation, Office of Natural Gas & Petroleum Import & Export Activities, Office of Fossil Energy.

Appendix.—Orders Granting and Vacating Import/Export Authorizations
[DOE/FE AUTHORITY]
Order no. | Date issued | Importer/exporter FE docket no. | Import volume | Export volume | Comments
713-A | 1-6-03 | The Berkshire Gas Company 92-142-NG |  |  | Vacate blanket import authority.
926-A | 1-6-03 | Phillips Gas Marketing Company 94-15-NG |  |  | Vacate blanket export authority.
1840 | 1-6-03 | El Paso Merchant Energy, L.P. 02-95-NG | 400 Bcf |  | Import and export a combined total of natural gas from and to Canada and Mexico, beginning on January 6, 2003, and extending through January 5, 2005.
1840 | 1-6-03 | El Paso Merchant Energy, L.P. 02-95-NG |  |  | Vacate blanket import authority. Order Nos. 1509 and 1509-A.
1840 | 1-6-03 | El Paso Merchant Energy, L.P. 02-95-NG |  |  | Vacate blanket export authority. Order Nos. 1510 and 1510-A.
1841 | 1-6-03 | EnergyNorth Natural Gas, Inc. 02-92-NG | 3 Bcf |  | Import and export a combined total of natural gas from and to Canada, beginning on January 15, 2003, and extending through January 14, 2005.
714-A | 1-6-03 | EnergyNorth Natural Gas, Inc. 02-143-NG |  |  | Vacate blanket import authority.
1842 | 1-6-03 | Essex Gas Company 02-94-NG | 2 Bcf |  | Import and export a combined total of natural gas from and to Canada, beginning on January 15, 2003, and extending through January 14, 2005.
711-A | 1-6-03 | Essex County Gas Company 92-140-NG |  |  | Vacate blanket import authority.
1844 | 1-7-03 | AllEnergy Gas & Electric Marketing Company, L.L.C. 02-98-NG | 3.6 Bcf |  | Import natural gas from Canada, beginning on February 1, 2003, and extending through January 31, 2005.
1845 | 1-7-03 | Abitibi-Consolidated Company of Canada 03-01-NG | 2.5 Bcf |  | Import and export a combined total of natural gas from and to Canada, beginning on February 1, 2003, and extending through January 31, 2005.
1846 | 1-10-03 | NorthWestern Energy, A Division of Northwestern Corporation 02-100-NG | 20 Bcf |  | Import natural gas from Canada, beginning on February 7, 2003, and extending through February 6, 2005.
1847 | 1-15-03 | Western International Holdings Ltd. 02-101-LNG | 37 Bcf |  | Import LNG from various international sources beginning on January 20, 2003, and extending through January 19, 2005.
1848 | 1-15-03 | Oleum Energy Corporation 02-102-LNG | 20 Bcf |  | Import LNG from various international sources beginning on April 15, 2003, and extending through April 14, 2005.
1849 | 1-21-03 | Selkirk Cogen Partners, L.P. 03-02-NG | 57 Bcf |  | Import and export a combined total of natural gas from and to Canada, beginning on January 29, 2003, and extending through January 28, 2005.
1845 | 1-23-03 | Abitibi-Consolidated Company of Canada 03-01-NG |  |  | Errata notice. Ordering Paragraph (A) incorrectly stated the volumes of natural gas to be imported and exported.
1850 | 1-28-03 | AIG Energy Trading Inc. 03-03-NG | 500 Bcf |  | Import and export a combined total of natural gas from and to Canada and Mexico, beginning on April 1, 2003, and extending through March 31, 2005.

[FR Doc. 03-4529 Filed 2-25-03; 8:45 am]

BILLING CODE 6450-01-P